DEPARTMENT OF AGRICULTURE

Rural Business-Cooperative Service

Notice of Solicitation of Applications for the Rural Energy for America Program for Federal Fiscal Year 2017; Correction

AGENCY: Rural Business-Cooperative Service, USDA.

ACTION: Notice; correction.

SUMMARY: The Rural Business-Cooperative Service (the Agency) published a notice in the Federal Register of October 18, 2016, announcing the acceptance of applications for funds available under the Rural Energy for America Program (REAP) for Fiscal Year (FY) 2017. The 2014 Farm Bill provides funding for the program for FY 2017. This notice provides corrections to: Section III. Eligibility Information, subsection D. Cost Sharing or Matching, paragraph (2) to indicate that applicants that have been previously been awarded energy audit or renewable energy development assistance grants and have not expended 50 percent of those funds are considered a “risk” pursuant to 2 CFR 200.205; Section V. Application Review Information, subsection (B) Review and Selection Process, paragraphs (1)(a) through (d), and paragraph (3) application window closing dates of May 1, 2017 are being modified to March 31, 2017; Section V. Application Review Information, subsection C. State Director and Administrator Points, paragraph (1)(b)is replacing “will” with “may” to indicate that the awarding of State Director and Administrator points is at the discretion of the State Director or Administrator and to remove the last sentence of subparagraph (b) because the Agency will use information provided in the application verses a certification; and Section VIII. Other Information, subsection B. Nondiscrimination Statement is being updated.

FOR FURTHER INFORMATION CONTACT: For information about this Notice, please contact Maureen Hessel, Business Loan and Grant Analyst, USDA Rural Development, Energy Division, 1400 Independence Avenue SW., Stop 3225, Room 6870, Washington, DC 20250. Telephone: (202) 401-0142. Email: maureen.hessel@wdc.usda.gov.

SUPPLEMENTARY INFORMATION: This Notice makes certain corrections to the original Notice published on October 18, 2016 at 81 Federal Register 71689. Unfortunately, the October 18, 2016 Notice did not reflect all of the changes made in clearance. This Notice captures the omitted changes. In FR Doc. 2016-25163 of October 18, 2016 (81 FR 71689), make the following corrections:

Summary of Changes

1. In the first column on page 71691, Section III. Eligibility Information, Subsection D. Cost Sharing or Matching, paragraph (2), the last sentence which continues into the second column is replaced with the following text:

An applicant who has received one or more grants under this program must have a satisfactory history of performance which, as it relates to the expenditure of grant funds, the Agency interprets as the expenditure of 50 percent or more of the previously awarded grants by January 31, 2017. Those who cannot meet this requirement will be determined to be a “risk” pursuant to 2 CFR 200.205 and may be denied a subsequent grant or have special conditions imposed.

2. In the first column on page 71694, under Section V. Application Review Information, subsection B. Review and Selection Process, subparagraph (1)(a) is being revised to read as follows:

(a) Funds for renewable energy system and energy efficiency improvements grants of $20,000 or less will be allocated to the States. Eligible applications must be submitted by October 31, 2016, or March 31, 2017, in order to be considered for these set-aside funds. Approximately 50 percent of these funds will be made available for those complete applications the Agency receives by October 31, 2016, and approximately 50 percent of the funds for those complete applications the Agency receives by March 31, 2017. All unused State allocated funds for grants of $20,000 or less will be pooled to the National Office.

3. In the first column on page 71694, under Section V. Application Review Information, subsection B. Review and Selection Process, subparagraph (1)(b) the first sentence is being revised to read as follows:

Eligible applications received by March 31, 2017, for renewable energy system and energy efficiency improvements grants of $20,000 or less, that are not funded by State allocations can be submitted to the National Office to compete against grant applications of $20,000 or less from other States at a national competition.

4. In the first column on page 71694, under Section V. Application Review Information, subsection B. Review and Selection Process, subparagraph (1)(c) the first sentence is revised to read as follows:

Eligible applications for renewable energy system and energy efficiency improvements, regardless of the amount of the funding request, received by March 31, 2017, can compete for unrestricted grant funds.

5. In the first column on page 71694, under Section V. Application Review Information, subsection B. Review and Selection Process, subparagraph (1)(d) is being revised to read as follows:

(d) National unrestricted grant funds for all eligible renewable energy system and energy efficiency improvements grant applications received by March 31, 2017, which include grants of $20,000 or less, that are not funded by State allocations can be submitted to the National Office to compete against grant applications from other States at a final national competition.

6. In the second column on page 71694, under Section V. Application Review Information, subsection B. Review and Selection Process, paragraph (3), the last sentence is revised to read as follows:

All unfunded eligible applications for combined grant and guaranteed loan applications that are received by March 31, 2017, and that are not funded by State allocations can be submitted to the National Office to compete against other grant and combined grant and guaranteed loan applications from other States at a final national competition.

7. In the third column on page 71694, under Section V. Application Review Information, subsection C. State Director and Administrator Points, is revised to read as follows:

The State Director and the Administrator may take into consideration paragraphs V.C.(1) and (2) below in the awarding of points for eligible renewable energy systems and energy efficiency improvement grant applications submitted in Federal FY 2017:

8. In the third column on page 71694, under Section V. Application Review Information, subsection C. State Director and Administrator Points, subparagraph (1)(b) is revised to read as follows:

Owned by a member of a socially-disadvantaged group, which are groups whose members have been subjected to racial, ethnic, or gender prejudice because of their identity as members of a group without regard to their individual qualities.

9. In the first column on page 71696, under Section VIII. Other Information, subsection B. Nondiscrimination Statement is revised to read as follows:

In accordance with Federal civil rights law and USDA civil rights regulations and policies, USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office, or write a letter addressed to USDA providing all of the information requested in the form. To request a copy of the complaint form, call (866) 632-9992. Submit your completed form or letter to USDA by:

(1) Mail: U.S. Department of Agriculture, Office of the Assistant Secretary for Civil Rights, 1400 Independence Avenue SW., Washington, DC 20250-9410;

(2) Fax: (202) 690-7442; or

(3) Email: program.intake@usda.gov.

USDA is an equal opportunity provider, employer, and lender.

Dated: November 18, 2016.
Samuel H. Rikkers,
Administrator, Rural Business-Cooperative Service.

[FR Doc. 2016-28737 Filed 11-28-16; 8:45 am]

BILLING CODE 3410-XY-P